COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: June 29, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): 8530-01-702-8831—Kit, Personal Sanitizing

Authorized Source of Supply: Blind Industries & Services of Maryland, Baltimore, MD

Contracting Activity: GSA/FSS GREATER SOUTHWEST ACQUISITI, FORT WORTH, TX

Service(s)

Service Type: Administrative Services

Mandatory for: GSA, Colorado Field Office: 730 Simmons Street; Denver, CO

Authorized Source of Supply: Bayaud Enterprises, Inc., Denver, CO

Contracting Activity: PUBLIC BUILDINGS SERVICE, PBS R8

Service Type: Janitorial/Custodial

Mandatory for: US Army Reserve, PFC Cloyse E. Hall USARC, Salem, VA; 1915 Roanoke Boulevard; Salem, VA

Authorized Source of Supply: Goodwill Industries of the Valleys, Inc., Roanoke, VA

Contracting Activity: DEPT OF THE ARMY, W6QK ACC-PICA

Service Type: Janitorial/Custodial

Mandatory for: US Army Reserve, New River Valley Memorial USARC, Dublin, VA; 5746 Reserve Way: Dublin, VA

Authorized Source of Supply: Goodwill Industries of the Valleys, Inc., Roanoke, VA

Contracting Activity: DEPT OF THE ARMY, W6QK ACC-PICA

Service Type: Custodial service

Mandatory for: US Army Reserve, TSGT Frank D. Peregory USARC, Charlottesville, VA; 1634 Cherry Ave.: Charlottesville, VA

Authorized Source of Supply: Goodwill Industries of the Valleys, Inc., Roanoke, VA

Contracting Activity: DEPT OF THE ARMY, W6QK ACC-PICA

Service Type: Janitorial Service

Mandatory for: US Army Reserve, Hewgley USARC, Knoxville, TN; 1334 East Weisgarber Road; Knoxville, TN

Contracting Activity: DEPT OF THE ARMY, W074 ENDIST CHARLESTON

Service Type: Medical Transcription

Mandatory for: Department of Veteran Affairs, VA Long Beach Healthcare System, 5901 E 7th Street; Long Beach, CA

Authorized Source of Supply: Goodwill Industries of San Antonio Contract Services, San Antonio, TX

Contracting Activity: VETERANS AFFAIRS, DEPARTMENT OF, 262-NETWORK CONTRACT OFFICE 22

Michael R. Jurkowski,
Director, Business Operations.

[FR Doc. 2025-09814 Filed 5-29-25; 8:45 am]

BILLING CODE 6353-01-P